DEPARTMENT OF HEALTH AND HUMAN SERVICES

Centers for Disease Control and Prevention

The Advisory Committee to the Director of the National Center for Environmental Health of the Centers for Disease Control and Prevention: Meeting

In accordance with section 10(a)(2) of the Federal Advisory Committee Act (Pub. L. 92-463), the Centers for Disease Control and Prevention (CDC) announces the following committee meeting.

Name: Advisory Committee to the Director, National Center for Environmental Health.

Time and Date: 8:30 a.m.-4:30 p.m., November 22, 2002.

Place: Centers for Disease Control and Prevention, Chamblee Campus, 4770 Buford Highway NE., Building 102, Room 2201, Atlanta, GA 30341. In the interest of security, CDC has instituted stringent procedures for entrance onto the Chamblee campus by nongovernment employees. Persons without government identification will need to show a photo ID, sign in with Security, and be escorted to Building 102.

Status: Open to the public for observation, limited only by the space available. The meeting room accommodates approximately 80 people.

Purpose: The Secretary, and by delegation, the Director of the Centers for Disease Control and Prevention, are authorized under Section 301 (42 U.S.C. 241) and Section 311 (42 U.S.C. 243) of the Public Health Service Act, as amended, to (1) Conduct, encourage, cooperate with, and assist other appropriate public authorities, scientific institutions, and scientists in the conduct of research, investigations, experiments, demonstrations, and studies relating to the causes, diagnosis, treatment, control, and prevention of physical and mental diseases and other impairments; (2) assist states and their political subdivisions in the prevention of infectious diseases and other preventable conditions and in the promotion of health and well being; and (3) train state and local personnel in health work.

Matters to be Discussed: The agenda items for the meeting on November 22 will include but are not limited to an overview of the National Center for Environmental Health; personnel issues; and presentations from NCEH regarding current activities.

Agenda items are tentative and subject to change.

Contact Person for More Information: Individuals interested in attending the meeting, please contact Kent Taylor, designated federal official, CDC, 4770 Buford Highway NE, MS F-29, Atlanta, Georgia 30341-3724; telephone (770) 488-7020, fax (770) 488-7024; e-mail: ktaylor@cdc.gov. The deadline for notification of attendance is November 14, 2002.

The Director, Management Analysis and Services Office, has been delegated the authority to sign Federal Register notices pertaining to announcements of meetings and other committee management activities for both CDC and the Agency for Toxic Substances and Disease Registry.

Dated: October 8, 2002.
Burma Burch,
Acting Director, Management Analysis and Services Office, Centers for Disease Control and Prevention,

[FR Doc. 02-26380 Filed 10-16-02; 8:45 am]

BILLING CODE 4163-18-P